DEPARTMENT OF AGRICULTURE

Forest Service

DEPARTMENT OF THE INTERIOR

Bureau of Land Management

[19XL.LLIDI00000.L71220000.EO0000.LVTFD1900100.241A.4500134029]

Notice of Availability of the Final Environmental Impact Statement for the Proposed East Smoky Panel Mine Project at Smoky Canyon Mine, Caribou County, ID

AGENCY: Bureau of Land Management, Interior; Forest Service, USDA.

ACTION: Notice of availability.

SUMMARY: In accordance with the National Environmental Policy Act of 1969 (NEPA), as amended, the Bureau of Land Management (BLM) and the U.S. Department of Agriculture, Forest Service (USFS) Caribou-Targhee National Forest (CTNF), have prepared a Final Environmental Impact Statement (Final EIS) for the proposed East Smoky Panel Mine Project (Project) and by this notice are announcing its availability.

DATES: The BLM will not issue a final decision on the proposal for a minimum of 30 days after the date the Environmental Protection Agency publishes its notice of availability in the Federal Register. The Final EIS and the Draft USFS Record of Decision (ROD) are now available for public review. A 60-day objection period for the Draft USFS ROD will start when the USFS publishes a legal notice in the newspaper of record.

ADDRESSES: Copies of the East Smoky Panel Mine Project Final EIS are available for public inspection at the BLM Pocatello Field Office at 4350 Cliffs Drive, Pocatello, ID 83204. Interested persons may also review the Final EIS on the internet at the following locations:

• BLM Land Use Planning and NEPA Register: https://go.usa.gov/xnYTG

• Caribou-Targhee National Forest Current and Recent Projects: http://www.fs.usda.gov/projects/ctnf/landmanagement/projects

FOR FURTHER INFORMATION CONTACT: Kyle Free, BLM Pocatello Field Office, 4350 Cliffs Drive, Pocatello, ID 83204; phone 208-478-6352; email: kfree@blm.gov; fax 208-478-6376. Persons who use a telecommunications device for the deaf (TDD) may call the Federal Relay Service (FRS) at 1-800-877-8339 to contact Mr. Free. The FIRS is available 24 hours a day, 7 days a week, to leave a message or question for Mr. Free. You will receive a reply during normal business hours.

SUPPLEMENTARY INFORMATION: The J.R. Simplot Company (Simplot) submitted a proposed lease modification (enlargement) and Mine and Reclamation Plan (M&RP) for the East Smoky Panel leases (IDI-015259, IDI-26843, and IDI-012890), with the intent of expanding the current Smoky Canyon Phosphate Mine in Caribou County, Idaho.

The BLM, as the Federal lease administrator, is the lead agency, and the USFS is the co-lead agency. The Idaho Department of Environmental Quality, Idaho Department of Lands, and Idaho Governor's Office of Energy and Mineral Resources are cooperating agencies.

The NOA for the Draft EIS published on September 28, 2018, initiating a 90-day public comment period. Agencies, organizations, and interested parties provided comments on the Draft EIS via mail, email, and public meetings.

The Final EIS fully addresses issues identified during scoping and during public review of the Draft EIS by analyzing impacts to water resources, air quality, human health and safety, socioeconomics, and wildlife. It also addresses reclamation, financial assurance, mitigation and monitoring. The Final EIS evaluates three alternatives: The Proposed Action, the Preferred Alternative, and a No Action Alternative. The agencies identified Alternative 1 as the Preferred Alternative because it reduces impacts to groundwater and other resources. Under the Preferred Alternative, overall mining operations, mining sequences, and other associated ancillary operations remain the same as described for the Proposed Action. Use of a steeper pit wall would reduce the ultimate pit footprint by approximately 78 acres. This eliminates the need to mine the highly seleniferous cherty shale overburden. The reduction of seleniferous overburden material eliminates the need for the Proposed Action's geologic store-and-release cover and substitutes a less expensive and less complex, soil-only cover.

The BLM and USFS will make separate but coordinated decisions related to the proposed Project. The BLM will either approve, approve with modifications, or deny the M&RP; recommend whether or not to modify lease IDI-015259; and decide whether to grant a modification to the previously approved B-Panel Mine Plan of the Smoky Canyon Mine. The BLM will base its decisions on the Final EIS, public and agency input, and any recommendations the USFS may have regarding surface management of leased National Forest System lands. The USFS will make recommendations to the BLM concerning surface management and best management practices on leased lands within the CTNF and will issue decisions on special use authorizations (SUAs) for off-lease mining support activities. The USFS SUAs are necessary for any off-lease disturbances/structures associated with the Project located within the CTNF. The Preferred Alternative requires an amendment to the forest plan as outlined in the Final EIS.

The portion of the Project related to USFS SUAs for off-lease activities is subject to the objection process pursuant to 36 CFR parts 218 and 219. The USFS will provide instructions for filing objections in the legal notice published in the newspaper of record for the Draft USFS ROD. The USFS will only accept objections from those who have previously submitted specific written comments regarding the proposed project during scoping or other designated opportunities for public comment in accordance with 36 CFR 218.5(a) and 219.53(a). Objection issues must be based on previously submitted, timely, and specific written comments regarding the proposed project unless they are based on new information arising after designated opportunities. The BLM will release a ROD concurrent with release of the Final USFS ROD.

(Authority: 36 CFR parts 218 and 219; 42 U.S.C. 4321 et seq.; 40 CFR parts 1500-1508; 43 CFR part 46; 43 U.S.C. 1701; and 43 CFR part 3590)

John F. Ruhs,
State Director, Bureau of Land Management, Idaho.
Mel Bolling,
Forest Supervisor, Caribou-Targhee National Forest.

[FR Doc. 2020-03970 Filed 2-27-20; 8:45 am]

BILLING CODE 4310-GG-P